DEPARTMENT OF JUSTICE

Notice of Proposed Consent Decree Under the Comprehensive Environmental Response, Compensation and Liability Act (CERCLA)

Pursuant to Section 122(d)(2) of CERCLA, 42 U.S.C. 9622(d)(2), notice is hereby given that on December 3, 2009, a proposed Consent Decree in U.S. v. Ameron International Corp. et al., Civil Action No. 2:09-cv-8719, was lodged with the United States District Court for the Central District of California.

Under the proposed Consent Decree, twelve parties will pay the United States Environmental Protection Agency (“EPA”) a combined total of $3,868,902 to resolve liability arising under the Comprehensive Environmental Response, Compensation and Liability Act (CERCLA), with respect to the Operating Industries, Inc. Superfund Site in Monterey Park, California. These parties are: Ameron International Corporation; B & C Plating Company; California Dairies, Inc.; Casex Co.; Energy Production & Sales Co.; Halliburton Energy Services, Inc.; International Extrusion Corporation; Jaybee Manufacturing Corporation; Luxfer, Inc.; Princess Cruises Limited; Thompson Drilling Company; and YRC, Inc.

The Department of Justice will receive comments relating to the proposed agreement for a period of thirty (30) days from the date of this publication. Comments should be addressed to the Assistant Attorney General, Environment and Natural Resources Division, and either e-mailed to pubcomment-ees.enrd@usdoj.gov or mailed to P.O. Box 7611, U.S. Department of Justice, Washington, DC 20044-7611, and should refer to U.S. v. Ameron International Corp. et al., DOJ Ref. No. 90-11-2-156/12.

The proposed Consent Decree may be examined at the Region 9 Office of the United States Environmental Protection Agency, 75 Hawthorne Street, San Francisco, California 94105. During the public comment period, the proposed agreement may also be examined on the following Department of Justice Web site: http://www.usdoj.gov/enrd/Consent_Decrees.html. A copy of the proposed agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $22.25 (25 cents per page reproduction cost) payable to the U.S. Treasury.

Maureen Katz,
Assistant Chief, Environmental Enforcement Section, Environment and Natural Resources Division.

[FR Doc. E9-29368 Filed 12-9-09; 8:45 am]

BILLING CODE 4410-15-P